DEPARTMENT OF HOMELAND SECURITY

Coast Guard

33 CFR Part 117

[Docket No. USCG-2011-1116]

Drawbridge Operation Regulation; Oakland Inner Harbor, Oakland, CA

AGENCY: Coast Guard, DHS.

ACTION: Notice of temporary deviation from regulations.

SUMMARY: The Commander, Eleventh Coast Guard District, has issued a temporary deviation from the regulation governing the operation of the Fruitvale Avenue Drawbridge across Oakland Inner Harbor, mile 5.6, between the cities of Alameda and Oakland, Alameda County, CA. The deviation is necessary to allow the County of Alameda Public Works Agency to perform seismic retrofitting on the drawbridge. This deviation allows the bridge owner to secure the drawspan in the closed-to-navigation position during the project.

DATES: This deviation is effective from 12:01 a.m., December 12, 2011 to 11:59 p.m. on February 3, 2012.

ADDRESSES: Documents mentioned in this preamble as being available in the docket are part of the docket USCG-2011-1116 and are available online by going to http://www.regulations.gov, inserting USCG-2011-1116 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email David H. Sulouff, Chief, Bridge Section, Eleventh Coast Guard District; telephone (510) 437-3516, email David.H.Sulouff@uscg.mil. If you have questions on viewing the docket, call Renee V. Wright, Program Manager, Docket Operations, telephone (202) 366-9826.

SUPPLEMENTARY INFORMATION: The County of Alameda Public Works Agency has requested a temporary change to the operation of the Fruitvale Avenue Drawbridge, mile 5.61, over Oakland Inner Harbor, between the cities of Alameda and Oakland, Alameda County, CA. The drawbridge navigation span provides a vertical clearance of 15 feet above Mean High Water in the closed-to-navigation position. The draw opens on signal; except that, from 8 a.m. to 9 a.m. and 4:30 p.m. to 6:30 p.m. Monday through Friday except Federal holidays, the draw need not be opened for the passage of vessels. However, the draw shall open during the above closed periods for vessels which must, for reasons of safety, move on a tide or slack water, if at least two hours notice is given, as required by 33 CFR 117.181. Navigation on the waterway is commercial and recreational.

The drawspan will be secured in the closed-to-navigation position for seismic retrofitting during three time periods: (a) From 12:01 a.m., December 12, 2011 to 11:59 p.m. on December 23, 2011; (b) from 12:01 a.m., January 3, 2012 to 11:59 p.m. on January 12, 2012; and (c) from 12:01 a.m., January 23, 2012 to 11:59 p.m. on February 3, 2012. At all other times, the drawspan will promptly return to normal operation. This temporary deviation has been coordinated with waterway users. No objections to the proposed temporary deviation were raised.

Vessels that can transit the bridge, while in the closed-to-navigation position, may continue to do so at any time.

In accordance with 33 CFR 117.35(e), the drawbridge must return to its regular operating schedule immediately at the end of the designated time period. This deviation from the operating regulations is authorized under 33 CFR 117.35.

Dated: December 2, 2011.
D.H. Sulouff,
District Bridge Chief, Eleventh Coast Guard District.

[FR Doc. 2011-32260 Filed 12-15-11; 8:45 am]

BILLING CODE 9110-04-P